DEPARTMENT OF HOMELAND SECURITY

Federal Emergency Management Agency

[Docket ID FEMA-2025-0002; Internal Agency Docket No. FEMA-B-2501]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E Fontenot,
Assistant Administrator, Risk Analysis, Planning & Information Directorate, Federal Emergency Management Agency, Department of Homeland Security.

State and county | Location and case No. | Chief executive officer of community | Community map repository | Online location of letter of map revision | Date of modification | Community No.
Florida:
Collier | City of Naples (24-04-6638P). | The Honorable Teresa Heitmann, Mayor, City of Naples, 735 8th Street South, Naples, FL 34102. | City Hall, 735 8th Street South, Naples, FL 34102. | https://msc.fema.gov/portal/advanceSearch. | Apr. 28, 2025 | 125130
Collier | City of Naples (24-04-7529P). | The Honorable Teresa Heitmann, Mayor, City of Naples, 735 8th Street South, Naples, FL 34102. | City Hall, 735 8th Street South, Naples, FL 34102. | https://msc.fema.gov/portal/advanceSearch. | Apr. 23, 2025 | 125130
Lee | City of Fort Myers, (24-04-3429P). | Marty Lawing, Manager, City of Fort Myers, 2200 2nd Street, Fort Myers, FL 33901. | City Hall, 2200 2nd Street, Fort Myers, FL 33901. | https://msc.fema.gov/portal/advanceSearch. | Apr. 23, 2025 | 125106
Lee | Village of Estero, (24-04-6934X). | The Honorable Jon McLain, Mayor, Village of Estero, 9401 Corkscrew Palms Circle, Estero, FL 33928. | Village Hall, 9401 Corkscrew Palms Circle, Estero, FL 33928. | https://msc.fema.gov/portal/advanceSearch. | Apr. 8, 2025 | 120260
Lee | Unincorporated areas of Lee County, (24-04-6934X). | Roger Desjarlais, Lee County Manager, 2115 2nd Street, Fort Myers, FL 33901. | Lee County Government Center, 1039 Southeast 9th Place, Room 309, Cape Coral, FL 33990. | https://msc.fema.gov/portal/advanceSearch. | Apr. 8, 2025 | 125124
Manatee | Unincorporated areas of Manatee County, (24-04-3997P). | Charlie Bishop, Manatee County Administrator, 1112 Manatee Avenue West, Bradenton, FL 34205. | Manatee County Administration Building, 1112 Manatee Avenue West, Bradenton, FL 34205. | https://msc.fema.gov/portal/advanceSearch. | Apr. 21, 2025 | 120153
Monroe | Unincorporated areas of Monroe County, (25-04-0131P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | May 2, 2025 | 125129
Illinois:
Cook | Village of Flossmoor, (25-05-0095P). | The Honorable Michelle Nelson, Mayor, Village of Flossmoor, 2800 Flossmoor Road, Flossmoor, IL 60422. | Public Works Service Center, 1700 Central Park Avenue, Flossmoor, IL 60422. | https://msc.fema.gov/portal/advanceSearch. | Apr. 28, 2025 | 170091
Will | City of Aurora, (24-05-1559P). | The Honorable Richard C. Irvin, Mayor, City of Aurora, 44 East Downer Place, Aurora, IL 60505. | Engineering Department, 44 East Downer Place, Aurora, IL 60505. | https://msc.fema.gov/portal/advanceSearch. | Mar. 27, 2025 | 170320
Will | City of Lockport, (24-05-0838P). | The Honorable Steven Streit, Mayor, City of Lockport, 222 East 9th Street, Lockport, IL 60441. | Public Works and Engineering Department, 17112 South Prime Boulevard, Lockport, IL 60441. | https://msc.fema.gov/portal/advanceSearch. | Apr. 21, 2025 | 170703
Will | City of Naperville, (24-05-1559P). | The Honorable Scott A. Wehrli, Mayor, City of Naperville, 400 South Eagle Street, Naperville, IL 60540. | Municipal Center, 400 South Eagle Street, Naperville, IL 60540. | https://msc.fema.gov/portal/advanceSearch. | Mar. 27, 2025 | 170213
Will | Unincorporated areas of Will County, (24-05-0838P). | Jennifer Bertino-Tarrant, Will County Executive, 302 North Chicago Street, Joliet, IL 60432. | Will County Land Use Department, 58 East Clinton Street, Suite 100, Joliet, IL 60432. | https://msc.fema.gov/portal/advanceSearch. | Apr. 21, 2025 | 170695
Will | Unincorporated areas of Will County, (24-05-1559P). | Jennifer Bertino-Tarrant, Will County Executive, 302 North Chicago Street, Joliet, IL 60432. | Will County Land Use Department, 58 East Clinton Street, Suite 100, Joliet, IL 60432. | https://msc.fema.gov/portal/advanceSearch. | Mar. 27, 2025 | 170695
Will | Village of Plainfield, (24-05-1559P). | John Argoudelis, Village President, Village of Plainfield, 24401 West Lockport Street, Plainfield, IL 60544. | Village Hall, 24401 West Lockport Street, Plainfield, IL 60544. | https://msc.fema.gov/portal/advanceSearch. | Mar. 27, 2025 | 170771
Indiana: Allen | City of Fort Wayne, (23-05-2185P). | The Honorable Sharon Tucker, Mayor, City of Fort Wayne, 200 East Berry Street, Suite 420, Fort Wayne, IN 46802. | Department of Planning Services, 200 East Berry Street, Suite 150, Fort Wayne, IN 46802. | https://msc.fema.gov/portal/advanceSearch. | Apr. 21, 2025 | 180093
Kansas:
Sumner | City of Wellington, (22-07-1014P). | The Honorable Joe Soria, Mayor, City of Wellington, 317 South Washington Avenue, Wellington, KS 67152. | City Hall, 317 South Washington Avenue, Wellington, KS 67152. | https://msc.fema.gov/portal/advanceSearch. | Apr. 18, 2025 | 200349
Sumner | Unincorporated areas of Sumner County, (22-07-1014P). | The Honorable John Cooney, Chair, Sumner County Board of Commissioners, 501 North Washington Avenue, Wellington, KS 67152. | Sumner County Planning, Zoning, Environmental Health, 110 East 10th Street, Wellington, KS 67152. | https://msc.fema.gov/portal/advanceSearch. | Apr. 18, 2025 | 200348
North Carolina:
Wake | Town of Garner, (24-04-2906P). | The Honorable Buddy Gupton, Mayor, Town of Garner 900 7th Avenue, Garner, NC 27529. | Planning Department 900 7th Avenue, Garner, NC 27529. | https://msc.fema.gov/portal/advanceSearch. | Apr. 22, 2025 | 370240
Wake | Town of Wake Forest, (24-04-4109P). | The Honorable Vivian A. Jones, Mayor, Town of Wake Forest, 301 South Brooks Street, Wake Forest, NC 27587. | Planning Department, 301 South Brooks Street, 3rd Floor, Wake Forest, NC 27587. | https://msc.fema.gov/portal/advanceSearch. | Apr. 15, 2025 | 370244
Wake | Unincorporated areas of Wake County, (24-04-2906P). | Matt Calabria, Chair, Wake County Board of Commissioners P.O. Box 550, Raleigh, NC 27602. | Wake County Planning Department, 336 Fayetteville Street, #500, Raleigh, NC 27601. | https://msc.fema.gov/portal/advanceSearch. | Apr. 22, 2025 | 370368
Pennsylvania: Montgomery | Township of Lower Moreland, (24-03-0069P). | Denise A. Kuritz, President, Township of Lower Moreland, Board of Commissioners, 640 Red Lion Road, Huntingdon Valley, PA 19006. | Township Hall, 640 Red Lion Road, Huntingdon Valley, PA 19006. | https://msc.fema.gov/portal/advanceSearch. | Apr. 7, 2025 | 420702
Texas:
Dallas | City of Sachse (24-06-0362P). | The Honorable Jeff Bickerstaff, Mayor, City of Sachse, 3815 Sachse Road, Building B, Sachse, TX 75048. | City Hall, 3815 Sachse Road, Building B, Sachse, TX 75048. | https://msc.fema.gov/portal/advanceSearch. | Apr. 18, 2025 | 480186
Harris | Unincorporated areas of Harris County, (24-06-2517P). | The Honorable Lina Hidalgo, Harris County Judge, 1001 Preston Street, Suite 911, Houston, TX 77002. | Harris County Civil Courthouse, 201 Caroline Street, 4th Floor, Houston, TX 77002. | https://msc.fema.gov/portal/advanceSearch. | Apr. 21, 2025 | 480287
Kaufman | Unincorporated areas of Kaufman County, (24-06-1043P). | The Honorable Jakie Allen, Kaufman County Judge, 1902 East U.S. Highway 175, Kaufman, TX 75142. | Kaufman County Development Services Department, 101 North Houston Street, Kaufman, TX 75142. | https://msc.fema.gov/portal/advanceSearch. | Apr. 18, 2025 | 480411
McLennan | City of Waco (24-06-0932P). | The Honorable Jim Holmes, Mayor, City of Waco, P.O. Box 2570, Waco, TX 76702. | Dr. Mae Jackson Development Center, 401 Franklin Avenue, Waco, TX 76701. | https://msc.fema.gov/portal/advanceSearch. | Apr. 28, 2025 | 480461
Midland | Unincorporated areas of Midland County, (24-06-2040P). | The Honorable Terry Johnson, Midland County Judge, 500 North Loraine Street, Suite 1100, Midland, TX 79701. | Midland County Public Works Department, 500 North Loraine Street, Suite 1100, Midland, TX 79701. | https://msc.fema.gov/portal/advanceSearch. | Apr. 30, 2025 | 481239
Montgomery | Unincorporated areas of Montgomery County, (24-06-2517P). | The Honorable Mark J. Keough, Montgomery County Judge, 501 North Thompson Street, Suite 401, Conroe, TX 77301. | Montgomery County Commissioners Court Building, 501 North Thompson Street, Suite 100, Conroe, TX 77301. | https://msc.fema.gov/portal/advanceSearch. | Apr. 21, 2025 | 480483
Rockwall | City of Fate (24-06-2333P). | The Honorable David Billings, Mayor, City of Fate, 1900 C.D. Boren Parkway, Fate, TX 75087. | City Hall, 1900 C.D. Boren Parkway, Fate, TX 75087. | https://msc.fema.gov/portal/advanceSearch. | Apr. 25, 2025 | 480544
Rockwall | City of Rockwall, (24-06-2333P). | The Honorable Trace Johannesen, Mayor, City of Rockwall, 385 South Goliad Street, Rockwall, TX 75087. | City Hall, 385 South Goliad Street, Rockwall, TX 75087. | https://msc.fema.gov/portal/advanceSearch. | Apr. 25, 2025 | 480547
Tarrant | City of Fort Worth, (24-06-0668P). | The Honorable Mattie Parker, Mayor, City of Fort Worth, 100 Fort Worth Trail, Fort Worth, TX 76102. | Department of Transportation and Public Works—Stormwater Management Division, 100 Fort Worth Trail, Fort Worth, TX 76102. | https://msc.fema.gov/portal/advanceSearch. | Apr. 17, 2025 | 480596
Virginia:
Prince William | City of Manassas, (23-03-0230P). | The Honorable Michelle Davis-Younger, Mayor, City of Manassas, 9027 Center Street, Manassas, VA 20110. | City Hall, 9027 Center Street, Manassas, VA 20110. | https://msc.fema.gov/portal/advanceSearch. | Mar. 21, 2025 | 510122
Prince William | City of Manassas, (23-03-0969P). | The Honorable Michelle Davis-Younger, Mayor, City of Manassas, 9027 Center Street, Manassas, VA 20110. | City Hall, 9027 Center Street, Manassas, VA 20110. | https://msc.fema.gov/portal/advanceSearch. | Feb. 28, 2025 | 510122
Prince William | Unincorporated areas of Prince William. County, (23-03-0230P). | Christopher Shorter, Prince William County Executive, 1 County Complex Court, Prince William, VA 22192. | Prince William County Watershed Management Branch, 5 County Complex Court, Suite 170, Prince William, VA 22192. | https://msc.fema.gov/portal/advanceSearch. | Mar. 21, 2025 | 510119
Prince William | Unincorporated areas of Prince William County, (23-03-0969P). | Christopher Shorter, Prince William County Executive, 1 County Complex Court, Prince William, VA 22192. | Prince William County Watershed Management Branch, 5 County Complex Court, Suite 170, Prince William, VA 22192. | https://msc.fema.gov/portal/advanceSearch. | Feb. 28, 2025 | 510119

[FR Doc. 2025-02980 Filed 2-21-25; 8:45 am]

BILLING CODE 9110-12-P